DEPARTMENT OF LABOR

Office of the Secretary

Submission for OMB Review; Comment Request

December 22, 2005.

The Department of Labor (DOL) has submitted the following public information collection request (ICR) to the Office of Management and Budget (OMB) for review and approval in accordance with the Paperwork Reduction Act of 1995 (Pub. L. 104-13, 44 U.S.C chapter 35). A copy of this ICR, with applicable supporting documentation, may be obtained by contacting Darrin King on 202-693-4129 (this is not a toll-free number) or e-mail: king.darrin@dol.gov.

Comments should be sent to Office of Information and Regulatory Affairs, Attn: OMB Desk Officer for the Occupational Safety and Health Administration (OSHA), Office of Management and Budget, Room 10235, Washington, DC 20503, 202-395-7316 (this is not a toll-free number), within 30 days from the date of this publication in the Federal Register, the OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Occupational Safety and Health Administration.

Type of Review: Extension of currently approved collection.

Title: The 13 Carcinogens Standard (29 CFR 1910.1003, 1915.1003, and 1926.1103).

OMB Number: 1218-0085.

Frequency: On occasion and Annually.

Type of Response: Recordkeeping and Third party disclosure.

Affected Public: Business or other for-profit; Not-for-profit institutions; Federal Government; and State, Local, or Tribal Government.

Number of Respondents: 97.

Number of Annual Responses: 2,187.

Estimated Time Per Response: Time per response ranges from approximately 5 minutes (for employers to maintain records) to 2 hours for employees to receive a medical examination.

Total Burden Hours: 1,657.

Total Annualized capital/startup costs: $0.

Total Annual Costs (operating/maintaining systems or purchasing services): $86,227.

Description: The information collection requirements specified in the 13 Carcinogens Standard protect employees from the adverse health effects that may result from exposure to any of the 13 carcinogens. The major information collection requirements of the 13 Carcinogens Standard include: Establishing and implementing respiratory protection and medical surveillance programs for employees assigned to or being considered for assignment to regulated areas; maintaining complete and accurate records of the respiratory protection programs and medical surveillance; providing employees with records of all medical examination results; and posting warning signs and information. In addition, employers must retain employee medical records for specified time periods, provide these records to OSHA and the National Institute for Occupational Safety and Health (NIOSH) upon request, and transfer them to NIOSH under certain circumstances.

Ira L. Mills,
Departmental Clearance Officer.

[FR Doc. 05-24648 Filed 12-29-05; 8:45 am]

BILLING CODE 4510-26-M